DEPARTMENT OF COMMERCE

International Trade Administration

[C-489-819]

Steel Concrete Reinforcing Bar From the Republic of Turkey: Preliminary Results of Countervailing Duty Administrative Review and Intent To Rescind the Review in Part; 2015

AGENCY: Enforcement and Compliance, International Trade Administration, Department of Commerce.

SUMMARY: The Department of Commerce (the Department) is conducting an administrative review of the countervailing duty (CVD) order on steel concrete reinforcing bar (rebar) from the Republic of Turkey (Turkey). The period of review (POR) is January 1, 2015, through December 31, 2015. This review covers two producers/exporters of subject merchandise that the Department selected for individual examination: Colakoglu Dis Ticaret A.S. (COTAS) and Colakoglu Metalurji A.S. (Colakoglu Metalurji) (collectively, Colakoglu) and Icdas Celik Enerji Tersane ve Ulasim Sanayi A.S. (Icdas) (collectively, the mandatory respondents). This review also covers the following firms that were not individually examined: Acemar International Limited, As Gaz Sinai ve Tibbi Azlar A.S., Asil Celik Sanayi ve Ticaret A.S., Ege Celik Endustrisi Sanayi ve Ticaret A.S., Izmir Demir Celik Sanayi A.S., Kaptan Demir Celik Endustrisi ve Ticaret A.S., Kaptan Metal Dis Ticaret ve Nakliyat A.S., Kocaer Haddecilik Sanayi Ve Ticar L, Mettech Metalurji Madencilik Muhendislik Uretim Danismanlik ve Ticaret Limited Sirketi, MMZ Onur Boru Profil A.S., Ozkan Demir Celik Sanayi A.S., and Wilmar Europe Trading BV. We preliminarily find that the mandatory respondents each received a de minimis net subsidy rate during the POR. See the “Preliminary Results of the Review” section of this notice below for the preliminary rates calculated for all companies covered in this review.

DATES: Applicable December 6, 2017.

FOR FURTHER INFORMATION CONTACT: Kristen Johnson, AD/CVD Operations, Office III, Enforcement and Compliance, International Trade Administration, U.S. Department of Commerce, 1401 Constitution Avenue NW., Washington, DC 20230; telephone (202) 482-4793.

Scope of the Order

The scope of the order consists of steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. While HTSUS subheadings are provided for convenience and customs purposes, the written description of the scope of this Order is dispositive.¹

¹ See Steel Concrete Reinforcing Bar from the Republic of Turkey: Countervailing Duty Order, 79 FR 65926 (November 6, 2014) (Order). For a full description of the scope of this order, see Memorandum, “Decision Memorandum for the Preliminary Results of Countervailing Duty Administrative Review, and the Preliminary Intent to Rescind, in Part: Steel Concrete Reinforcing Bar from the Republic of Turkey; 2015,” dated concurrently with, and hereby adopted by this notice (Preliminary Decision Memorandum).

Methodology

We are conducting this administrative review in accordance with section 751(a)(1)(A) of the Tariff Act of 1930, as amended (the Act). For each subsidy program found countervailable, we preliminarily find that there is a subsidy, i.e., a financial contribution by an “authority” that gives rise to a benefit to the recipient, and that the subsidy is specific.² For a full description of the methodology underlying our conclusions, see the Preliminary Decision Memorandum.

² See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Preliminary Decision Memorandum can be accessed directly on the internet at http://enforcement.trade.gov/frn/. The signed Preliminary Decision Memorandum and the electronic version of the Preliminary Decision Memorandum are identical in content.

A list of topics discussed in the Preliminary Decision Memorandum is provided in the Appendix to this notice.

Intent To Rescind Administrative Review, in Part

Agir Haddecilik A.S. (Agir) timely filed a no-shipments certification.³ U.S. Customs and Border Protection (CBP) did not provide to the Department any contradictory information.⁴ Because there is no evidence on the record to indicate that Agir had entries, exports, or sales of subject merchandise to the United States during the POR, pursuant to 19 CFR 351.213(d)(3), we intend to rescind the review with respect to Agir.

³ Agir was previously known as Agir Haddecilik Makina ve Sanayi Ticaret Ltd. Sti. Agir's former name was included in the Initiation Notice. See Initiation of Antidumping and Countervailing Duty Administrative Reviews, 82 FR 4294, 4298 (January 13, 2017) (Initiation Notice).

⁴ See Preliminary Decision Memorandum at Intent to Rescind the 2015 Administrative Review, in Part.

Entries of merchandise produced and exported by Habas Sinai ve Tibbi Gazlar Istihsal Endustrisi A.S. (Habas) are not subject to countervailing duties under this Order because the Department's final determination with respect to this producer/exporter combination was negative.⁵ However, any entries of merchandise produced by any other entity and exported by Habas or produced by Habas and exported by another entity are subject to this Order.

⁵ See Steel Concrete Reinforcing Bar from the Republic of Turkey: Final Affirmative Countervailing Duty Determination and Final Affirmative Critical Circumstances Determination, 79 FR 54963, 54964 (September 15, 2014).

Because there is no evidence on the record of entries of merchandise produced by another entity and exported by Habas, or entries of merchandise produced by Habas and exported by another entity, we preliminarily determine that Habas is not subject to this administrative review. Therefore, pursuant to 19 CFR 351.213(d)(3), we intend to rescind the review with respect to Habas. A final decision on whether to rescind the review of Agir and Habas will be made in the final results of this administrative review.

Preliminary Results of the Review

We preliminarily calculated individual subsidy rates for the mandatory respondents, Colakoglu and Icdas, and find that each company each received a de minimis net subsidy rate during the POR.

In CVD proceedings, where the number of respondents being individually examined has been limited, the Department has determined that a “reasonable method” to use to determine the rate applicable to companies that were not individually examined when all the rates of selected mandatory respondents are zero or de minimis is to assign to the non-selected respondents the average of the most recently determined rates that are not zero, de minimis, or based entirely on facts available.⁶ However, if a non-selected respondent has its own calculated rate that is contemporaneous with or more recent than such previous rates, the Department has found it appropriate to apply that calculated rate to the non-selected respondent, even when that rate is zero or de minimis.⁷

⁶ See, e.g., Circular Welded Carbon Steel Pipes and Tubes from Turkey: Final Results of Countervailing Duty Administrative Review; Calendar Year 2012 and Rescission of Countervailing Duty Administrative Review, in Part, 79 FR 51140, 51141 (August 27, 2014); and Cut-to-Length Carbon-Quality Steel Plate from the Republic of Korea: Final Results of Countervailing Duty Administrative Review; 2012, 79 FR 46770 (August 11, 2014), and accompanying Issues and Decision Memorandum at Non-Selected Rate.

⁷ Id.

In the Turkey Rebar First Review, the most recently completed administrative review of this order, we calculated a net subsidy rate of 0.02 percent ad valorem for Kaptan Demir Celik Endustrisi ve Ticaret A.S. and Kaptan Metal Dis Ticaret ve Nakliyat A.S. (collectively, Kaptan).⁸ Therefore, consistent with the Department's practice, described above, we are assigning the rate of 0.02 percent ad valorem to Kaptan, based on the company's rate calculated in the prior review.

⁸ See Steel Concrete Reinforcing Bar from the Republic of Turkey: Final Results and Partial Rescission of Countervailing Duty Administrative Review; 2014, 82 FR 26907, 26908 (June 12, 2017) (Turkey Rebar First Review).

With regard to the 10 remaining non-selected companies, for which an individual rate was not calculated, we are assigning the rate of 1.25 percent ad valorem, which is the sole above de minimis rate calculated within a segment of this proceeding.⁹

⁹ The rate of 1.25 percent was calculated for Icdas in the underlying investigation. See Steel Concrete Reinforcing Bar from the Republic of Turkey: Final Affirmative Countervailing Duty Determination Final Affirmative Critical Circumstances Determination, 79 FR 54963, 54964 (September 15, 2014).

We preliminarily find that the net countervailable subsidy rates for the period January 1, 2015, through December 31, 2015 are as follows:

Company | Subsidy rate Ad Valorem (%)
Icdas Celik Enerji Tersane ve Ulasim Sanayi A.S. and its cross-owned affiliates ¹⁰ | 0.02
Colakoglu Dis Ticaret A.S. and Colakoglu Metalurji A.S | 0.18
Acemar International Limited | 1.25
As Gaz Sinai ve Tibbi Azlar A.S ¹¹ | 1.25
Asil Celik Sanayi ve Ticaret A.S ¹² | 1.25
Ege Celik Endustrisi Sanayi ve Ticaret A.S ¹³ | 1.25
Izmir Demir Celik Sanayi A.S. | 1.25
Kaptan Demir Celik Endustrisi ve Ticaret A.S.¹⁴ and Kaptan Metal Dis Ticaret ve Nakliyat A.S ¹⁵ | 0.02
Kocaer Haddecilik Sanayi Ve Ticar L | 1.25
Mettech Metalurji Madencilik Muhendislik Uretim Danismanlik ve Ticaret Limited Sirketi | 1.25
MMZ Onur Boru Profil A.S | 1.25
Ozkan Demir Celik Sanayi A.S | 1.25
Wilmar Europe Trading BV | 1.25

Assessment Rates

Consistent with section 751(a)(1) of the Act and 19 CFR 351.212(b)(2), upon issuance of the final results, the Department shall determine, and CBP shall assess, countervailing duties on all appropriate entries covered by this review. We intend to issue instructions to CBP 15 days after publication of the final results of this review.

¹⁰ The Department preliminarily finds the following companies to be cross-owned with Icdas: Mardas Marmara Deniz Isletmeciligi A.S., Oraysan Insaat Sanayi ve Ticaret A.S., Artmak Denizcilik Ticaret ve Sanayi A.S., and Demir Sanayi Demir Celik Ticaret ve Sanayi A.S.

¹¹ The company's name was incorrectly spelled as As Gaz Sinai ve Tibbi Azlar AS. in the Initiation Notice. See Initiation Notice, 82 FR at 4298.

¹² The company's name was incorrectly spelled as Asil Celik Sanayi ve Ticaret AS. in the Initiation Notice. Id.

¹³ The company's name was incorrectly spelled as Ege Celik Endustrisi Sanayi ve Ticaret AS. in the Initiation Notice. Id.

¹⁴ The company's name was incorrectly spelled as Kaptan Demir Celik Industrisi ve Ticaret A.S. in the Initiation Notice. Id.

¹⁵ In its request for review, the petitioner listed the company name as Kaptan Metal Dis Tic Ve Nak AS. See Petitioner's Letter, “Request for Administrative Review,” dated November 30, 2016, and Initiation Notice, 82 FR at 4298. The petitioner subsequently clarified that the review request was for Kaptan Metal Dis Ticaret ve Nakliyat A.S. See Petitioner's Letter, “Response to Clarification Request,” dated July 26, 2017.

Cash Deposit Requirements

Pursuant to section 751(a)(2)(C) of the Act, the Department intends to instruct CBP to collect cash deposits of estimated countervailing duties in the amount shown above for the reviewed companies should the final results remain the same as these preliminary results. For all non-reviewed firms, we will instruct CBP to collect cash deposits of estimated countervailing duties at the most recent company-specific or all-others rate applicable to the company. These cash deposit requirements, when imposed, shall remain in effect until further notice.

Disclosure and Public Comment

We will disclose to the parties in this proceeding the calculations performed in reaching the preliminary results within five days of the date of publication of this notice.¹⁶ Interested parties may submit written arguments (case briefs) on the preliminary results no later than 30 days from the date of publication of this Federal Register notice, and rebuttal comments (rebuttal briefs) within five days after the time limit for filing case briefs.¹⁷ Pursuant to 19 CFR 351.309(d)(2), rebuttal briefs must be limited to issues raised in the case briefs. Parties who submit arguments are requested to submit with the argument: (1) Statement of the issue, (2) a brief summary of the argument, and (3) a table of authorities.

¹⁶ See 19 CFR 351.224(b).

¹⁷ See 19 CFR 351.309(c)(1)(ii); 351.309(d)(1); and 19 CFR 351.303 (for general filing requirements).

Interested parties who wish to request a hearing, or to participate if one is requested, must submit a written request within 30 days after the date of publication of this notice.¹⁸ Requests should contain the party's name, address, and telephone number, the number of participants, and a list of the issues to be discussed. If the Department receives a request for a hearing, we will inform parties of the scheduled date for the hearing, which will be held at the main Department of Commerce building at a time and location to be determined.¹⁹ Parties should confirm by telephone the date, time, and location of the hearing.

¹⁸ See 19 CFR 351.310(c).

¹⁹ See 19 CFR 351.310.

Parties are reminded that briefs and hearing requests are to be filed electronically using ACCESS and that electronically filed documents must be received successfully in their entirety by 5:00 p.m. Eastern Time on the due date.

Unless the deadline is extended pursuant to section 751(a)(3)(A) of the Act, we intend to issue the final results of this administrative review, including the results of our analysis of the issues raised by parties in their comments, within 120 days after publication of these preliminary results.

Notification to Interested Parties

These preliminary results of review are issued and published in accordance with sections 751(a)(1) and 777(i)(1) of the Act and 19 CFR 351.213 and 351.221(b)(4).

Dated: November 30, 2017.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Intent To Rescind the 2015 Administrative Review, in Part

IV. Non-Selected Rate

V. Scope of the Order

VI. Subsidies Valuation Information

VII. Analysis of Programs

A. Programs Preliminarily Determined To Be Countervailable

1. Rediscount Program

2. Deductions From Taxable Income for Export Revenue

B. Programs Preliminarily Determined To Not Confer Countervailable Benefits

1. Provision of Natural Gas for Less Than Adequate Remuneration (LTAR)

2. Inward Processing Regime

3. Assistance To Offset Costs Related to Antidumping/CVD Investigations

4. Investment Incentive Certificates

C. Programs Preliminarily Determined To Not Be Countervailable

1. Payments From the Turkish Employers' Association of Metal Industries (MESS)—

Social Security Premium Support

2. Payments From MESS—Occupational Health and Safety Support

D. Programs Preliminarily Determined To Not Be Used

1. Purchase of Electricity for More Than Adequate Remuneration (MTAR)—Sales via Build-Operate-Own, Build-Operate-Transfer, and Transfer of Operating Rights Contracts

2. Purchase of Electricity Generated From Renewable Resources for MTAR

3. Provision of Lignite for LTAR

4. Reduction and Exemption of Licensing Fees for Renewable Resource Power Plants

5. Research and Development Grant Program

6. Export Credits, Loans, and Insurance From Turk Eximbank

7. Regional Investment Incentives

8. Large-Scale Investment Incentives

9. Strategic Investment Incentives

10. Incentives for Research & Development (R&D) Activities

11. Regional Development Subsidies

VIII. Recommendation

[FR Doc. 2017-26292 Filed 12-5-17; 8:45 am]

BILLING CODE 3510-DS-P